DEPARTMENT OF THE INTERIOR

National Park Service

Notice of Inventory Completion: The University Museum, University of Arkansas, Fayetteville, AR

AGENCY: National Park Service, Interior.

ACTION: Notice.

Notice is here given in accordance with the Native American Graves Protection and Repatriation Act (NAGPRA), 25 U.S.C. 3003, of the completion of an inventory of human remains and associated funerary objects in the possession of The University Museum, University of Arkansas, Fayetteville, AR. The human remains and associated funerary objects were removed from Clark, Dallas, Garland, Hot Springs, Howard, Lafayette, Little River, Miller, Ouachita, Scott, and Yell Counties, AR.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains and associated funerary objects was made by The University Museum, University of Arkansas professional staff in consultation with representatives of the Caddo Nation of Oklahoma.

In 1933, human remains representing a minimum of eight individuals were removed from the Strickland Island Farm (3SC7), Scott County, AR, during museum sponsored excavations. No known individuals were identified. The 106 associated funerary objects are 84 ceramic sherds, 1 group of ceramic sherds, 5 arrow points, 2 bone daggers, 4 bone needles, 1 bone knife or scarper, 3 bone awls, 1 bone flaker, 1 terrapin shell, 1 group of dog bones, 1 antler tool, 1 group of shells, and 1 “skiver.”

In 1934, human remains representing a minimum of one individual were removed from the Nick T. Wheatley Place (3CL8), Clark County, AR, during museum sponsored excavations. No known individual was identified. The four associated funerary objects are two arrow points and two stone celts.

In 1970, human remains representing a minimum of three individuals were removed from the Poe site (3SC28), Scott County, AR, during museum sponsored excavations. No known individuals were identified. The six associated funerary objects are four ceramic sherds, one group of lithic fragments, and one animal bone.

Artifacts found at the Strickland Island Farm, Nick T. Wheatley Place, and Poe sites indicate that they were occupied during the Fourche Maline period (A.D. 500-800).

In 1929, human remains representing a minimum of three individuals were removed from Lester Place (3LA48), Lafayette County, AR, by unknown persons. The human remains were donated to the museum that same year. No known individuals were identified. No associated funerary objects are present.

In 1929, human remains representing a minimum of one individual were removed from the Clyde Hodges site in Garland County, AR, by unknown persons. The human remains were donated to the museum that same year. No known individual was identified. No associated funerary objects are present.

In 1930, human remains representing a minimum of one individual were removed from the Murphy Place, Garland County, AR, by unknown persons. The human remains were donated to the museum that same year. No known individual was identified. The one associated funerary object is an incised effigy bowl.

In 1933, human remains representing a minimum of six individuals were removed from the Aikman Farm (3YE15), Yell County, AR, during museum sponsored excavations. No known individuals were identified. The 29 associated funerary objects are 1 ceramic water bottle in the form of a human, 1 undecorated ceramic water bottle, 2 ceramic bowls, 8 ceramic sherds, 2 ceramic pipes, 1 clay ball, 7 arrow points, 1 quartz crystal, 1 polished stone, 1 group of animal bone fragments, 3 metal buttons, and 1 group of nail fragments.

In 1940, human remains representing a minimum of six individuals were removed from the Adair site (3GA1), Garland County, AR, during museum sponsored excavations. No known individuals were identified. The one associated funerary object is one group of rocks.

In 1940, human remains representing a minimum of 28 individuals were removed from the Cooper Place (3HS1), Hot Springs County, AR, during museum sponsored excavations. No known individuals were identified. The one associated funerary object is an incised ceramic water bottle.

In 1940, human remains representing a minimum of nine individuals were removed from the Means/Watermelon Island site (3HS3), Hot Springs County, AR, during museum sponsored excavations. No known individuals were identified. No associated funerary objects are present.

In 1948, human remains representing a minimum of one individual were removed from the Battle Place site (3LA1), Lafeyette County, AR, during museum sponsored excavations. No known individual was identified. No associated funerary objects are present.

In 1951, human remains representing a minimum of one individual were removed from the Bacon Roadside Mound (3DA403), Dallas County, AR, during museum sponsored excavations. No known individual was identified. The 23 associated funerary objects are 1 incised ceramic water bottle and 22 ceramic sherds.

In 1951, human remains representing a minimum of one individual were removed from the Bee Ranch (3OU005), Ouachita County, AR, during museum sponsored excavations. No known individual was identified. The 82 associated funerary objects are 1 ceramic pipe, 52 ceramic sherds, 25 lithic flakes, and 4 animal bone fragments.

In 1953, human remains representing a minimum of three individuals were removed from the Mineral Springs (3HO1), Howard County, AR, during museum sponsored excavations. No known individuals were identified. The two associated funerary objects are one chipped flint and one stone.

In 1962, human remains representing a minimum of nine individuals were removed from the Crenshaw site (3MI6), Miller County, AR, during museum sponsored excavations. On an unknown date, human remains representing a minimum of four individuals were removed by unknown persons from the Crenshaw site (3MI6). The thirteen individuals were donated to the museum in 1986. No known individuals were identified. The 43 associated funerary objects are 1 ceramic bowl, 10 ceramic sherds, 1 ceramic pipe, 24 arrow points, 1 chert blade, 1 water-worn pebble, and 5 copper ornaments.

On an unknown date, human remains representing a minimum of two individuals were removed from the Wallace site (3LR46), Little River County, AR, by unknown persons. The human remains and associated funerary objects were purchased by the museum in 1955. No known individuals were identified. The 13 associated funerary objects are 1 engraved ceramic bowl, 1 incised ceramic bowl, 2 ceramic bowls, 1 incised ceramic jar, 1 engraved ceramic water bottle, 1 ceramic water bottle, 2 ceramic vessels, 2 arrow points, 1 stone celt, and 1 fragmentary vessel.

On an unknown date, human remains representing a minimum of one individual were removed from the Old Salt Works (Bayou Sel) site (3CL27), Clark County, AR, by unknown persons. The human remains were donated to the museum in 1966. No known individual was identified. No associated funerary objects are present.

On an unknown date, human remains representing a minimum of two individuals were removed from the Haley site (3MI1), Miller County, AR, by unknown persons. The human remains were donated to the museum in 1967. No known individuals were identified. No associated funerary objects are present.

On an unknown date, human remains representing a minimum of one individual were removed from the Jones Farm site in Miller County, AR, by unknown persons. The human remains were donated to the museum in 1967. No known individual was identified. The 13 associated funerary objects are 10 animal bone fragments, 1 group of ceramic bowl fragments, 1 stone, and 1 soil sample.

On an unknown date, human remains representing a minimum of three individuals were removed from the Bowman/Wallace site (3LRvar), Little River County, AR, by unknown persons. The human remains were donated to the museum in 1986. No known individuals were identified. No associated funerary objects are present.

Artifacts found at Lester Place, Clyde Hodges, Murphy Place, Aikman Farm, Adair, Cooper Place, Means/Watermelon Island, Battle Place, Bacon Roadside Mound, Bee Ranch, Mineral Springs, Crenshaw, Wallace, Old Salt Works (Bayou Sel), Haley, Jones Farm, and Bowman/Wallace sites indicate that they were occupied during the Caddoan period (A.D. 800-1600)

In 1933, human remains representing a minimum of 32 individuals were removed from the Fuller and Judy Place (3SC4), Scott County, AR, during museum sponsored excavations. No known individuals were identified. The 62 associated funerary objects are 2 engraved ceramic water bottles, 1 incised ceramic jar, 1 corrugated rim ceramic bowl, 1 appliqued ceramic jar, 1 ceramic bowl, 15 ceramic sherds, 1 ceramic pipe, 7 arrow points, 1 knife, 1 axe, 3 “boatstones,” 1 unidentified stone, 1 piece of red ochre, 1 beaver tooth, 2 groups of deer bones, 2 antler fragments, 1 antler tool, 1 unidentified bone, 1 group of terrapin shells, 16 mussel shells, 1 shell ornament, and 1 group of undifferentiated sherds, shell, and bone.

Artifacts found at the Fuller and Judy Place site indicate that it was occupied during the Fourche Maline period (A.D. 500-800) and Caddoan period (A.D. 800-1600).

Based on artifacts, site organization, and methods of interment, the human remains and associated funerary objects removed from burials at the 21 sites described above date to either the Fourche Maline period (A.D. 500-800) and/or Caddoan period (A.D. 800-1600). Archeological evidence suggests a cultural continuity through these periods. Archeological and historical evidence indicates that the Caddo occupied the Ouachita Mountains and the area along the Red River in southwestern Arkansas during both time periods. Descendants of the Caddo are members of the Caddo Nation of Oklahoma.

Officials of The University Museum, University of Arkansas have determined that, pursuant to 25 U.S.C. 3001 (9-10), the human remains described above represent the physical remains of 126 individuals of Native American ancestry. Officials of The University Museum, University of Arkansas also have determined that, pursuant to 25 U.S.C. 3001 (3)(A), the 386 objects described above are reasonably believed to have been placed with or near individual human remains at the time of death or later as part of a death rite or ceremony. Lastly, officials of The University Museum, University of Arkansas have determined that, pursuant to 25 U.S.C. 3001 (2), there is a relationship of shared group identity that can be reasonably traced between the Native American human remains and associated funerary objects and the Caddo Nation of Oklahoma.

Representatives of any other Indian tribe that believes itself to be culturally affiliated with the human remains and associated funerary objects should contact Mary Suter, Curator of Collections, The University Museum, University of Arkansas, Biomass Research Center, Fayetteville, AR 72701, telephone (479) 575-3456, before January 18, 2008. Repatriation of the human remains and associated funerary objects to the Caddo Nation of Oklahoma may proceed after that date if no additional claimants come forward.

The University Museum, University of Arkansas is responsible for notifying the Caddo Nation of Oklahoma that this notice has been published.

Dated: November 14, 2007
Sherry Hutt,
Manager, National NAGPRA Program.

[FR Doc. E7-24619 Filed 12-18-07; 8:45 am]

BILLING CODE 4312-50-S